DEPARTMENT OF TRANSPORTATION

Federal Aviation Administration

14 CFR Part 97

[Docket No. 31037; Amdt. No. 3661]

Standard Instrument Approach Procedures, and Takeoff Minimums and Obstacle Departure Procedures; Miscellaneous Amendments

AGENCY: Federal Aviation Administration (FAA), DOT.

ACTION: Final rule.

SUMMARY: This rule establishes, amends, suspends, or removes Standard Instrument Approach Procedures (SIAPs) and associated Takeoff Minimums and Obstacle Departure Procedures (ODPs) for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective October 15, 2015. The compliance date for each SIAP, associated Takeoff Minimums, and ODP is specified in the amendatory provisions.

The incorporation by reference of certain publications listed in the regulations is approved by the Director of the Federal Register as of October 15, 2015.

ADDRESSES: Availability of matters incorporated by reference in the amendment is as follows:

For Examination

1. U.S. Department of Transportation, Docket Ops-M30, 1200 New Jersey Avenue SE., West Bldg., Ground Floor, Washington, DC 20590-0001.

2. The FAA Air Traffic Organization Service Area in which the affected airport is located;

3. The office of Aeronautical Navigation Products, 6500 South MacArthur Blvd., Oklahoma City, OK 73169 or,

4. The National Archives and Records Administration (NARA). For information on the availability of this material at NARA, call 202-741-6030, or go to: http://www.archives.gov/federal_register/code_of_federal_regulations/ibr_locations.html.

Availability

All SIAPs and Takeoff Minimums and ODPs are available online free of charge. Visit the National Flight Data Center at nfdc.faa.gov to register. Additionally, individual SIAP and Takeoff Minimums and ODP copies may be obtained from the FAA Air Traffic Organization Service Area in which the affected airport is located.

FOR FURTHER INFORMATION CONTACT: Richard A. Dunham III, Flight Procedure Standards Branch (AFS-420), Flight Technologies and Programs Divisions, Flight Standards Service, Federal Aviation Administration, Mike Monroney Aeronautical Center, 6500 South MacArthur Blvd. Oklahoma City, OK. 73169 (Mail Address: P.O. Box 25082, Oklahoma City, OK 73125) Telephone: (405) 954-4164.

SUPPLEMENTARY INFORMATION: This rule amends Title 14 of the Code of Federal Regulations, Part 97 (14 CFR part 97), by establishing, amending, suspending, or removes SIAPS, Takeoff Minimums and/or ODPS. The complete regulatory description of each SIAP and its associated Takeoff Minimums or ODP for an identified airport is listed on FAA form documents which are incorporated by reference in this amendment under 5 U.S.C. 552(a), 1 CFR part 51, and 14 CFR part § 97.20. The applicable FAA forms are FAA Forms 8260-3, 8260-4, 8260-5, 8260-15A, and 8260-15B when required by an entry on 8260-15A.

The large number of SIAPs, Takeoff Minimums and ODPs, their complex nature, and the need for a special format make publication in the Federal Register expensive and impractical. Further, airmen do not use the regulatory text of the SIAPs, Takeoff Minimums or ODPs, but instead refer to their graphic depiction on charts printed by publishers of aeronautical materials. Thus, the advantages of incorporation by reference are realized and publication of the complete description of each SIAP, Takeoff Minimums and ODP listed on FAA form documents is unnecessary. This amendment provides the affected CFRs and specifies the types of SIAPs, Takeoff Minimums and ODPs with their applicable effective dates. This amendment also identifies the airport and its location, the procedure, and the amendment number.

Availability and Summary of Material Incorporated by Reference

The material incorporated by reference is publicly available as listed in the ADDRESSES section.

The material incorporated by reference describes SIAPS, Takeoff Minimums and/or ODPS as identified in the amendatory language for part 97 of this final rule.

The Rule

This amendment to 14 CFR part 97 is effective upon publication of each separate SIAP, Takeoff Minimums and ODP as Amended in the transmittal. Some SIAP and Takeoff Minimums and textual ODP amendments may have been issued previously by the FAA in a Flight Data Center (FDC) Notice to Airmen (NOTAM) as an emergency action of immediate flight safety relating directly to published aeronautical charts.

The circumstances that created the need for some SIAP and Takeoff Minimums and ODP amendments may require making them effective in less than 30 days. For the remaining SIAPs and Takeoff Minimums and ODPs, an effective date at least 30 days after publication is provided.

Further, the SIAPs and Takeoff Minimums and ODPs contained in this amendment are based on the criteria contained in the U.S. Standard for Terminal Instrument Procedures (TERPS). In developing these SIAPs and Takeoff Minimums and ODPs, the TERPS criteria were applied to the conditions existing or anticipated at the affected airports. Because of the close and immediate relationship between these SIAPs, Takeoff Minimums and ODPs, and safety in air commerce, I find that notice and public procedure under 5 U.S.C. 553(b) are impracticable and contrary to the public interest and, where applicable, under 5 U.S.C 553(d), good cause exists for making some SIAPs effective in less than 30 days.

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26,1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, Navigation (Air).

Issued in Washington, DC, on September 11, 2015.
John Duncan,
Director, Flight Standards Service.

Adoption of the Amendment

Accordingly, pursuant to the authority delegated to me, Title 14, Code of Federal Regulations, Part 97 (14 CFR part 97) is amended by establishing, amending, suspending, or removing Standard Instrument Approach Procedures and/or Takeoff Minimums and Obstacle Departure Procedures effective at 0901 UTC on the dates specified, as follows:

PART 97—Standard Instrument Approach Procedures

1. The authority citation for part 97 continues to read as follows:

Authority: 49 U.S.C. 106(g), 40103, 40106, 40113, 40114, 40120, 44502, 44514, 44701, 44719, 44721-44722.

2. Part 97 is amended to read as follows:

Effective 15 OCTOBER 2015

Demopolis, AL, Demopolis Rgnl, RNAV (GPS) RWY 4, Amdt 1

Demopolis, AL, Demopolis Rgnl, RNAV (GPS) RWY 22, Amdt 1

Oakland, CA, Metropolitan Oakland Intl, ILS OR LOC RWY 30, ILS RWY 30 (CAT II), ILS RWY 30 (CAT III), ILS RWY 30 (SA CAT I), Amdt 29

Oakland, CA, Metropolitan Oakland Intl, RNAV (GPS) Y RWY 30, Amdt 5

Oakland, CA, Metropolitan Oakland Intl, RNAV (RNP) Z RWY 30, Amdt 3

Hayden, CO, Yampa Valley, ILS OR LOC/DME RWY 10, Orig

Hayden, CO, Yampa Valley, ILS OR LOC/DME Y RWY 10, Amdt 3, CANCELED

Hayden, CO, Yampa Valley, RNAV (GPS) RWY 28, Amdt 3

Hayden, CO, Yampa Valley, RNAV (GPS) Y RWY 10, Amdt 3

Hayden, CO, Yampa Valley, RNAV (RNP) Z RWY 10, Amdt 2

Telluride, CO, Telluride Rgnl, Takeoff Minimums and Obstacle DP, Amdt 3

Athens, GA, Athens/Ben Epps, ILS OR LOC/DME RWY 27, Amdt 2

Athens, GA, Athens/Ben Epps, NDB RWY 27, Amdt 1A, CANCELED

Athens, GA, Athens/Ben Epps, RNAV (GPS) RWY 2, Amdt 1

Athens, GA, Athens/Ben Epps, RNAV (GPS) RWY 9, Amdt 1

Athens, GA, Athens/Ben Epps, RNAV (GPS) RWY 20, Amdt 1

Athens, GA, Athens/Ben Epps, RNAV (GPS) RWY 27, Amdt 1

Athens, GA, Athens/Ben Epps, Takeoff Minimums and Obstacle DP, Amdt 2

Athens, GA, Athens/Ben Epps, VOR RWY 27, Amdt 13

Atlanta, GA, Hartsfield-Jackson Atlanta Intl, ILS OR LOC RWY 27L, ILS RWY 27L (SA CAT I), ILS RWY 27L (CAT II), Amdt 18A

Atlanta, GA, Hartsfield-Jackson Atlanta Intl, ILS PRM RWY 27L, ILS PRM RWY 27L (SA CAT I), ILS PRM RWY 27L (CAT II) (SIMULTANEOUS CLOSE PARALLEL), Amdt 3A

Bloomington/Normal, IL, Central IL Rgnl Arpt At Bloomington-Normal, ILS OR LOC RWY 20, ILS RWY 20 (CAT II), Amdt 3A

Bloomington/Normal, IL, Central IL Rgnl Arpt At Bloomington-Normal, ILS OR LOC RWY 29, Amdt 11

Bloomington/Normal, IL, Central IL Rgnl Arpt At Bloomington-Normal, ILS OR LOC/DME RWY 2, Orig-B

Bloomington/Normal, IL, Central IL Rgnl Arpt At Bloomington-Normal, LOC BC RWY 11, Amdt 11

Bloomington/Normal, IL, Central IL Rgnl Arpt At Bloomington-Normal, RNAV (GPS) RWY 2, Orig-B

Bloomington/Normal, IL, Central IL Rgnl Arpt At Bloomington-Normal, RNAV (GPS) RWY 11, Amdt 1A

Bloomington/Normal, IL, Central IL Rgnl Arpt At Bloomington-Normal, RNAV (GPS) RWY 20, Amdt 1A

Bloomington/Normal, IL, Central IL Rgnl Arpt At Bloomington-Normal, RNAV (GPS) RWY 29, Amdt 1A

Bloomington/Normal, IL, Central IL Rgnl Arpt At Bloomington-Normal, Takeoff Minimums and Obstacle DP, Orig-A

Peru, IL, Illinois Valley Rgnl-Walter A Duncan Field, LOC RWY 36, Amdt 4

Peru, IL, Illinois Valley Rgnl-Walter A Duncan Field, RNAV (GPS) RWY 18, Amdt 1

Peru, IL, Illinois Valley Rgnl-Walter A Duncan Field, RNAV (GPS) RWY 36, Amdt 1

Peru, IL, Illinois Valley Rgnl-Walter A Duncan Field, Takeoff Minimums and Obstacle DP, Amdt 1

Oberlin, KS, Oberlin Muni, NDB RWY 35, Amdt 1

Oberlin, KS, Oberlin Muni, RNAV (GPS) RWY 17, Orig

Oberlin, KS, Oberlin Muni, RNAV (GPS) RWY 35, Orig

Frankfort, KY, Capital City, RNAV (GPS) RWY 7, Amdt 3

Frankfort, KY, Capital City, RNAV (GPS) RWY 25, Amdt 4

New Orleans, LA, Louis Armstrong New Orleans Intl, ILS OR LOC RWY 2, Amdt 18

New Orleans, LA, Louis Armstrong New Orleans Intl, ILS OR LOC RWY 11, ILS RWY 11 (SA CAT I), ILS RWY 11 (CAT II), ILS RWY 11 (CAT III), Amdt 3

New Orleans, LA, Louis Armstrong New Orleans Intl, ILS OR LOC RWY 29, Amdt 10

New Orleans, LA, Louis Armstrong New Orleans Intl, LOC RWY 20, Amdt 3

New Orleans, LA, Louis Armstrong New Orleans Intl, RNAV (GPS) RWY 2, Amdt 2

New Orleans, LA, Louis Armstrong New Orleans Intl, RNAV (GPS) Y RWY 11, Amdt 2

New Orleans, LA, Louis Armstrong New Orleans Intl, RNAV (GPS) Y RWY 20, Amdt 3

New Orleans, LA, Louis Armstrong New Orleans Intl, RNAV (GPS) Y RWY 29, Amdt 4

New Orleans, LA, Louis Armstrong New Orleans Intl, RNAV (RNP) Z RWY 11, Amdt 1

New Orleans, LA, Louis Armstrong New Orleans Intl, RNAV (RNP) Z RWY 20, Amdt 1

New Orleans, LA, Louis Armstrong New Orleans Intl, RNAV (RNP) Z RWY 29, Amdt 2

New Orleans, LA, Louis Armstrong New Orleans Intl, Takeoff Minimums and Obstacle DP, Amdt 2

New Orleans, LA, Louis Armstrong New Orleans Intl, VOR/DME RWY 11, Amdt 1

Reserve, LA, St John The Baptist Parish, RNAV (GPS) RWY 17, Amdt 1

Reserve, LA, St John The Baptist Parish, RNAV (GPS) RWY 35, Amdt 1

Reserve, LA, St John The Baptist Parish, Takeoff Minimums and Obstacle DP, Amdt 1

Reserve, LA, St John The Baptist Parish, VOR RWY 35, Amdt 1

Houlton, ME, Houlton Intl, RNAV (GPS) RWY 5, Orig-B

Oxford, ME, Oxford County Rgnl, RNAV (GPS) RWY 15, Orig-B

Oxford, ME, Oxford County Rgnl, RNAV (GPS) RWY 33, Orig-B

Ludington, MI, Mason County, NDB RWY 26, Orig-A, CANCELED

Minneapolis, MN, Minneapolis-St Paul Intl/Wold-Chamberlain, ILS Z OR LOC RWY 30L, ILS Z RWY 30L (CAT II), Amdt 46A

Festus, MO, Festus Memorial, NDB OR GPS RWY 36, Amdt 2A, CANCELED

Festus, MO, Festus Memorial, RNAV (GPS)-A, Orig

Festus, MO, Festus Memorial, Takeoff Minimums and Obstacle DP, Amdt 4

Bowman, ND, Bowman Muni, GPS RWY 29, Orig, CANCELED

Bowman, ND, Bowman Muni, NDB RWY 29, Amdt 3, CANCELED

Bowman, ND, Bowman Muni, Takeoff Minimums and Obstacle DP, Orig, CANCELED

Norwich, NY, Lt Warren Eaton, RNAV (GPS) RWY 1, Amdt 1

Norwich, NY, Lt Warren Eaton, RNAV (GPS) RWY 19, Amdt 1

Norwich, NY, Lt Warren Eaton, Takeoff Minimums and Obstacle DP, Amdt 4

Schenectady, NY, Schenectady County, RNAV (GPS) RWY 10, Orig-D

San Juan, PR, Fernando Luis Ribas Dominicci, Takeoff Minimums and Obstacle DP, Amdt 1

Lexington-Parsons, TN, Beech River Rgnl, RNAV (GPS) RWY 1, Amdt 1

Lexington-Parsons, TN, Beech River Rgnl, RNAV (GPS) RWY 19, Amdt 1

Lexington-Parsons, TN, Beech River Rgnl, VOR-A, Orig-A, CANCELED

Nashville, TN, John C Tune, ILS OR LOC/DME RWY 20, Amdt 2

Nashville, TN, John C Tune, RNAV (GPS) RWY 2, Amdt 2

Nashville, TN, John C Tune, RNAV (GPS) RWY 20, Amdt 2

Nashville, TN, John C Tune, Takeoff Minimums and Obstacle DP, Amdt 2

Austin, TX, Austin-Bergstrom Intl, RNAV (GPS) Y RWY 35R, Amdt 1B

Austin, TX, Austin-Bergstrom Intl, RNAV (RNP) Z RWY 35L, Orig

Austin, TX, Austin-Bergstrom Intl, RNAV (RNP) Z RWY 35R, Orig

Castroville, TX, Castroville Muni, RNAV (GPS) RWY 16, Amdt 1

Castroville, TX, Castroville Muni, RNAV (GPS) RWY 34, Amdt 1

Castroville, TX, Castroville Muni, Takeoff Minimums and Obstacle DP, Orig

Eastland, TX, Eastland Muni, NDB RWY 35, Amdt 3A, CANCELED

Mosinee, WI, Central Wisconsin, VOR/DME RWY 35, Amdt 9B, CANCELED

Stevens Point, WI, Stevens Point Muni, VOR/DME RWY 3, Amdt 15, CANCELED

Stevens Point, WI, Stevens Point Muni, VOR/DME RWY 21, Amdt 19, CANCELED

Stevens Point, WI, Stevens Point Muni, VOR/DME RWY 30, Amdt 18, CANCELED

Wisconsin Rapids, WI, Alexander Field South Wood County, VOR/DME OR GPS-A, Amdt 9A, CANCELED

[FR Doc. 2015-25566 Filed 10-14-15; 8:45 am]

BILLING CODE 4910-13-P